DEPARTMENT OF ENERGY

Federal Energy Regulatory Commission

[Docket No. CP00-382-000]

Columbia Gas Transmission Corporation; Notice of Application

June 14, 2000.

Take notice that on June 9, 2000, Columbia Gas Transmission Corporation (Columbia), Post Office Box 1273, Charleston, West Virginia 25325-1273 in Docket No. CP00-382-000 an application, as supplemented on September 28, 1999, pursuant to Section 7(c) of the Natural Gas Act to permit Columbia to use firm capacity on Tennessee Gas Pipeline Company (Tennessee) and National Fuel Gas Supply Corporation (National Fuel), all as more fully set forth in the application which is on file with the Commission and open to public inspection. This filing may be viewed on the web at http://www.ferc.us/online/rims.htm (call 202-208-2222).

Columbia proposes to use firm capacity on Tennessee of up to 10,000 dt per day from Unionville, Beaver County, Pennsylvania, to Highland, Elk County, Pennsylvania, and to use firm capacity on National Fuel of 6,608 dt per day from Ellwood City, Beaver County, Pennsylvania, to Lewis Run, McKean County, Pennsylvania, both for a primary term beginning November 1, 2000, and ending October 31, 2004, with an evergreen provision.

It is stated that, by order issued November 12, 1999, in Docket No. CP99-625-000, Columbia was permitted to acquire up to 16,476 dt of firm capacity on Tennessee from Broad Run, Kanawha County, West Virginia to Highland, Elk County, Pennsylvania for a period beginning October 1, 1999, and ending March 31, 2000. Columbia indicates it required the firm capacity while it evaluated whether or not to replace portions of its Lines 1818 and 1862. Columbia states that it has now determined that it is more economical to acquire capacity on a long term basis from Tennessee and National Fuel than repair or replace the two pipelines. Columbia states that it will recover the costs associated with the Tennessee and National Fuel capacity in a subsequent Transportation Cost Recovery Adjustment filing.

Columbia also states that it will file an application to abandon the portions of Lines 1818 and 1862 located between the Renova Compressor Station and Smethport in the near future.

Any person desiring to be heard or to make any protest with reference to said application should on or before July 5, 2000, file with the Federal Energy Regulatory Commission, Washington, D.C. 20426, a motion to intervene or a protest in accordance with the requirements of the Commission's Rules of Practice and Procedure (18 CFR 385.214 or 385.211) and the Regulation under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate and permission for abandonment are required by the public convenience and necessity. If a motion for leave to intervene is timely filed, or if the Commission on its own motion believes that a formal hearing is required, further notice of such hearing will be duly given.

Under the procedure herein provided for, unless otherwise advised, it will be unnecessary for Columbia to appear or be represented at the hearing.

Linwood A. Watson, Jr.,
Acting Secretary.

[FR Doc. 00-15482 Filed 6-19-00; 8:45 am]

BILLING CODE 6717-01-M